DEPARTMENT OF DEFENSE

Office of the Secretary

[Docket ID: DoD-2015-OS-0037]

Submission for OMB Review; Comment Request

ACTION: Notice.

SUMMARY: The Department of Defense has submitted to OMB for clearance, the following proposal for collection of information under the provisions of the Paperwork Reduction Act.

DATES: Consideration will be given to all comments received by November 27, 2015.

FOR FURTHER INFORMATION CONTACT: Fred Licari, 571-372-0493.

SUPPLEMENTARY INFORMATION:

Title, Associated Form and OMB Number: Defense User Registration System (DURS) Records; DD Form 2345 Militarily Critical Technical Data Agreement; OMB Control Number 0704-XXXX.

Type of Request: Existing collection in use without an OMB control number.

Number of Respondents: 605.

Responses per Respondent: 1.

Annual Responses: 605.

Average Burden per Response: 10 minutes.

Annual Burden Hours: 101 Hours.

Needs and Uses: The information collection requirement is necessary to collect registration requests, validate eligibility, and maintain an official registry that identifies individuals who apply for, and are granted access privileges to DTIC owned or controlled computers, databases, products, services, and electronic information systems. Authority for maintenance of the system: E.O. 13526, Classified National Security Information; DoD Directive (DODD) 5105.73 Defense Technical Information Center (DTIC); DoDD 5230.25 Withholding of Unclassified Technical Data from Public Disclosure; DoD Instruction (DODI) 3200.12 DoD Scientific and Technical Information (STI) Program (STIP); DoDI 3200.14 Principles and Operational Parameters of the DoD Scientific and Technical Information Program; DoDI 5230.24 Distribution Statements on Technical Documents; DoD Manual 5200.01—Volume 3, DoD Information Security Program: Protection of Classified Information; and DoD Regulation 5200.2-R, Personnel Security Program.

Affected Public: Federal Government; Business or other for-profit.

Frequency: On occasion.

Respondent's Obligation: Voluntary.

OMB Desk Officer: Ms. Jasmeet Seehra.

Comments and recommendations on the proposed information collection should be emailed to Ms. Jasmeet Seehra, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DoD Clearance Officer: Mr. Frederick Licari.

Written requests for copies of the information collection proposal should be sent to Mr. Licari at WHS/ESD Directives Division, 4800 Mark Center Drive, East Tower, Suite 02G09, Alexandria, VA 22350-3100.

Dated: October 22, 2015.
Aaron Siegel,
Alternate OSD Federal Register Liaison Officer, Department of Defense.

[FR Doc. 2015-27318 Filed 10-26-15; 8:45 am]

BILLING CODE 5001-06-P